SURFACE TRANSPORTATION BOARD

[Docket No. FD 36771]

Merrimack & Grafton Railroad Corporation—Change in Operator Exemption—in Grafton and Coos Counties, N.H., and Essex County, Vt.

Merrimack & Grafton Railroad Corporation (MGRC), a Class III rail carrier, has filed a verified notice of exemption pursuant to 49 CFR 1150.41 to assume operations over the following railroad lines (the Lines), totaling approximately 52 route miles, owned by the State of New Hampshire through the New Hampshire Department of Transportation (NHDOT): (1) from milepost P 131.93 at North Stratford, N.H., to milepost P 145.21 at Colebrook, N.H.; (2) from milepost C 119.86 east of Wing Road in Bethlehem, N.H., to milepost C 130.7/P 101.9 at Hazen Road in Whitefield, N.H.; (3) from milepost C 130.7/P 101.9 at Hazen Road in Whitefield to milepost P 112.46/C 137.42 at Lancaster, N.H.; (4) from milepost P 112.46/C 137.42 at Lancaster to milepost C 145.76 (proximate to the Whistle Post located south of the West Street crossing at the connection with the St. Lawrence & Atlantic Railroad Company) at Groveton, N.H.; and (5) from milepost P 100.91 at Whitefield to milepost P 111.57 at Lunenburg, Vt. The verified notice states that the Lines are currently operated by New Hampshire Central Railroad, Inc. (NHCR).

According to the verified notice, MGRC, a subsidiary of Trans Rail Holding Company, has entered into an operating agreement with NHDOT to assume common carrier operations over the Lines. Upon consummation of the proposed transaction, MGRC will replace NHCR as the exclusive common carrier operator over the Lines.

MGRC certifies that the documents governing the proposed transaction do not include terms that would limit future interchange with a third-party connecting carrier. MGRC also certifies that its projected annual revenues resulting from the transaction will not result in the creation of a Class I or II rail carrier and are not expected to exceed $5 million.

Under 49 CFR 1150.42(b), a change in operator requires that notice be given to shippers. MGRC certifies that it has provided a copy of its verified notice to all customers on the Lines.

The transaction may be consummated on or after May 26, 2024, the effective date of the exemption (30 days after the verified notice was filed). If the verified notice contains false or misleading information, the exemption is void ab initio. Petitions to revoke the exemption under 49 U.S.C. 10502(d) may be filed at any time. The filing of a petition to revoke will not automatically stay the effectiveness of the exemption. Petitions for stay must be filed no later than May 17, 2024 (at least seven days before the exemption becomes effective).

All pleadings, referring to Docket No. FD 36771, must be filed with the Surface Transportation Board via e-filing on the Board's website or in writing addressed to 395 E Street SW, Washington, DC 20423-0001. In addition, a copy of each pleading must be served on MGRC's representative, Robert A. Wimbish, Fletcher & Sippel LLC, 29 North Wacker Drive, Suite 800, Chicago, IL 60606-3208.

According to MGRC, this action is categorically excluded from environmental review under 49 CFR 1105.6(c) and from historic preservation reporting requirements under 49 CFR 1105.8(b).

Board decisions and notices are available at www.stb.gov.

Decided: May 7, 2024.
By the Board, Mai T. Dinh, Director, Office of Proceedings.
Jeffrey Herzig,
Clearance Clerk.

[FR Doc. 2024-10285 Filed 5-9-24; 8:45 am]

BILLING CODE 4915-01-P